DEPARTMENT OF TRANSPORTATION

Federal Railroad Administration

[Docket Number FRA-2025-0136]

Notice of Petition for Waiver of Compliance

AGENCY: Federal Railroad Administration (FRA), Department of Transportation (DOT).

ACTION: Notice.

SUMMARY: This document provides the public notice that Mt. Rainier Scenic Railroad (MRSR) petitioned FRA for relief from certain regulations concerning steam locomotive inspections.

DATES: FRA must receive comments on the petition by September 2, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Barron, Railroad Safety Specialist, FRA Motive Power & Equipment Division, telephone: 202-366-7117, email: michael.barron@dot.gov.

SUPPLEMENTARY INFORMATION: Under part 211 of title 49 Code of Federal Regulations (CFR), this document provides the public notice that by letter dated May 23, 2025, MRSR petitioned FRA for a waiver of compliance from certain provisions of the Federal railroad safety regulations contained at 49 CFR part 230 (Steam Locomotive Inspection and Maintenance Standards). FRA assigned the petition Docket Number FRA-2025-0136.

Specifically, MRSR seeks relief from § 230.17(a), One thousand four hundred seventy-two (1472) service day inspection, which requires a steam locomotive's “entire boiler” to be inspected after 1,472 service days or 15 years, whichever is earlier. MRSR, a tourist railroad, seeks to extend for 62 operating days the deadline for its 15-year inspection, from September 7, 2025, to December 31, 2025, which would allow locomotive Polson No. 70 to continue operations during the fall and winter months, which MRSR states comprise more than 50% of its annual ridership. In its petition, MRSR explains that Polson No. 70 is “safe and structurally sound for continued operation,” citing its annual inspection and hydrostatic test in April 2025, which was witnessed by FRA. MRSR further states that its tourist service is a “major regional driver of tourism and economic development” in its community, and, as MRSR's two other steam locomotives are not currently available for use, without this relief, MRSR faces “the real risk of closure.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by September 2, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-14644 Filed 7-31-25; 8:45 am]

BILLING CODE 4910-06-P